DEPARTMENT OF THE INTERIOR

Fish and Wildlife Service

[FWS-R6-R-2008-N0187; 60138-1261-0000-S3]

Draft Comprehensive Conservation Plan for Red Rock Lakes National Wildlife Refuge, Lima, MT

AGENCY: Fish and Wildlife Service, Interior.

ACTION: Notice of availability.

SUMMARY: We, the U.S. Fish and Wildlife Service (Service) announce that our Draft Comprehensive Conservation Plan (CCP) and Environmental Assessment (EA) for Red Rock Lakes National Wildlife Refuge is available. This Draft CCP/EA describes how the Service intends to manage this Refuge for the next 15 years.

DATES: To ensure consideration, we must receive your written comments on the draft CCP/EA by October 27, 2008.

ADDRESSES: Please provide written comments to Laura King, Planning Team Leader, Tewaukon National Wildlife Refuge, 9756 143½ Avenue, SE., Cayuga, North Dakota 58013; via facsimile at 701-724-3683; or electronically to redrocks@fws.gov. A copy of the CCP/EA may be obtained by writing to U.S. Fish and Wildlife Service, Division of Refuge Planning, 134 Union Boulevard, Suite 300, Lakewood, Colorado 80228 or by download from http://mountain-prairie.fws.gov/planning.

FOR FURTHER INFORMATION CONTACT: Laura King, 701-724-3596 (phone); 701-724-3683 (fax); or laura_king@fws.gov (e-mail) or John Esperance, 303-236-4369 (phone); 303-236-4792 (fax); or john_esperance@fws.gov.

SUPPLEMENTARY INFORMATION: The Red Rock Lakes National Wildlife Refuge is located 28 miles east of Monida in Beaverhead County in southwestern Montana. This 47,756-acre Refuge sits at 6,670 feet above sea level and lies east of the Continental Divide near the uppermost reach of the Missouri drainage. The Refuge was established in 1935 by President Franklin D. Roosevelt. Historically, management focused on protecting and enhancing the trumpeter swan population at the Refuge. In the 1930s, the Refuge was their last known breeding location. Today, swans can still breed in the valley, but the intensive management of swan populations (through feeding and raising young) has been altered in favor of allowing the swans to thrive under mostly natural conditions.

The Refuge has one of the most naturally diverse areas in the National Wildlife Refuge System. The refuge boasts the largest wetland complex within the Greater Yellowstone Ecosystem, as well as expansive tracts of grassland and sagebrush-steppe habitats and a small amount of mid-elevation forested areas. These habitats support over 200 species of birds, including peregrine falcons, bald eagles, short-eared owls, sandhill cranes, sage grouse, and numerous species of waterfowl and waterbirds. Common mammalian species include Shiras moose, Rocky Mountain elk, mule and white-tailed deer, badger, coyote, and red fox. In addition, wolves and grizzly bears have been documented using the Refuge in recent years. There is also a remnant population of native adfluvial Arctic grayling that occurs on the Refuge.

A full-time staff of five employees and various summer temporaries manage and study the Refuge habitats and maintain visitor facilities. Domestic livestock grazing and prescribed fire are the primary management tools used to maintain and enhance upland habitats. Currently, four grazing cooperators are using Refuge lands. Water level manipulation occurs in some areas of the Refuge to improve wetland habitats.

Approximately 12,000 people visit the Refuge annually. Two Refuge roads and three county roads that pass through the Refuge account for the majority of visitor use. The Refuge is open to limited fishing with the majority of fishing occurring on Red Rock Creek. In addition, the Refuge is open to limited hunting of ducks, geese, coots, and moose. Elk, pronghorn, moose, mule deer and white-tailed deer are also hunted on certain areas of the Refuge according to State regulations and seasons. This draft CCP/EA identifies and evaluates four alternatives for managing the Refuge for the next 15 years.

Under Alternative A, funding staff levels and management activities at the Refuge would not change. Refuge habitats would continue to be managed utilizing water control structures, cattle grazing, prescribed fire, and various methods to control invasive species. There would be limited monitoring of habitat and wildlife response. The Refuge would continue to divert water from streams and impound water using all Service installed dikes, diversions, and structures. Wildlife dependent compatible priority uses, for example, hunting, fishing, wildlife observation, wildlife photography, and interpretation, would continue to occur at current levels. Hunting for big game and waterfowl would continue to be permitted on the Refuge. There would continue to be minimal outreach and education programs due to the poor county access roads and remote location. There would be minimal resources to adequately update signs, informational kiosks, and brochures as well as improve hiking trails, access roads, and campgrounds. There would be five full-time staff assigned to the Refuge.

Alternative B, the Proposed Action, acknowledges the importance of naturally functioning ecological communities on the Refuge. However, changes to the landscape (e.g., human alterations to the landscape, past refuge management creating wetlands and species in peril requiring special management actions) prevent managing the Refuge solely as a naturally functioning ecological community. Because some of these changes are significant, some Refuge habitats would require “hands on” management actions during the life of this plan, while others would be restored. Refuge habitats would continue to be managed utilizing water control structures, cattle grazing, prescribed fire, and various methods to control invasive species. The Refuge would determine their level of participation in State initiatives to reintroduce bison should they become designated as wildlife in Montana. Monitoring and documenting the response to management actions would be greatly expanded. Habitat and wildlife objectives would be clearly stated in step-down management plans. Visitor services programs would be maintained and expanded including hunting, fishing, wildlife observation and photography, and interpretation programs while maintaining the wilderness characteristics of the Refuge. Boundaries for big game hunting would be adjusted to reduce confusion, provide additional opportunities, and reduce illegal road hunting. Fishing would be expanded and following State regulations, visitors would be encouraged to keep nonnative fish species that impact native adfluvial Arctic grayling. Some Refuge roads and trails would provide interpretation and be identified on a new visitor services map. Idlewild Road would be closed to reduce maintenance costs and fragmentations of wildlife habitats. Both Refuge campgrounds would be maintained to support wildlife dependent compatible recreation on this remote Refuge.

Alternative C acknowledges the importance of a naturally functioning ecosystem. Management action emphasis would be placed on allowing wetland and riparian habitats to function naturally through the restoration of created and modified wetlands. Refuge habitats would continue to be managed utilizing the remaining water control structures, cattle grazing, prescribed fire, and various methods to control invasive species. The Refuge would determine their level of participation in State initiatives to reintroduce bison should they become designated as wildlife in Montana. Monitoring and documenting wildlife and habitat responses to management actions would be greatly expanded. Habitat and wildlife objectives would be clearly stated in step-down management plans. Visitor services programs would be improved and expanded, particularly environmental education and interpretation programs, while maintaining the wilderness characteristics of the Refuge. Boundaries for big game hunting would be adjusted to reduce confusion, provide additional opportunities, and reduce illegal road hunting. Some Refuge trails would provide interpretation and be identified on a new visitor services map. Idlewild Road would be closed to reduce maintenance costs and fragmentations of wildlife habitats. Fishing would be expanded and following State regulations, visitors would be encouraged to keep nonnative fish species that impact native adfluvial Arctic grayling. Only one Refuge campground would be maintained to support wildlife dependent compatible recreation on this remote Refuge.

Alternative D further acknowledges the importance of a naturally functioning ecosystem. Management action emphasis would be placed on the restoration of all natural processes including the restoration of all wetland and riparian habitats. The Refuge would participate in State initiatives to reintroduce bison should they become designated as wildlife in Montana. Monitoring of habitat and wildlife response to management actions would be greatly expanded. Habitat and wildlife objectives would be clearly stated in step-down management plans. The Refuge will place emphasis on creating a wilderness setting in all areas away from the Refuge headquarters. Visitor services programs would be maintained or expanded while promoting a wilderness experience with little or no signage and interpretation. Moose hunting would be eliminated. Boundaries for big game hunting areas would be adjusted to reduce confusion, provide additional opportunities, and reduce illegal road hunting. Fishing would be expanded and following State regulations, visitors would be encouraged to keep nonnative fish species that have impacted native adfluvial Arctic grayling. Idlewild Road, the associate boat ramp, and the north entrance spur roads would be closed to public vehicle access to reduce maintenance costs. Both Refuge campgrounds would be closed.

All public comment information provided voluntarily by mail, by phone, or at meetings (e.g., names, addresses, letters of comment, input recorded during meetings) becomes part of the official public record. If requested under the Freedom of Information Act by a private citizen or organization, the Service may provide copies of such information. The Environmental Review of this project will be conducted in accordance with the requirements of the National Environmental Policy Act (NEPA) of 1969, as amended (42 U.S.C. 4321 et seq.); NEPA Regulations (40 CFR parts 1500-1508); other appropriate Federal laws and regulations; Executive Order 12996; the National Wildlife Refuge System Improvement Act of 1997; and Service policies and procedures for compliance with those laws and regulations.

Dated: July 21, 2008.
Sharon R. Rose,
Acting Regional Director.

Editorial Note: This document was received in the Office of the Federal Register on September 23, 2008.

[FR Doc. E8-22697 Filed 9-25-08; 8:45 am]

BILLING CODE 4310-55-P